FEDERAL MARITIME COMMISSION

[Docket No. 18-10]

Logfret, Inc., Complainant v. Kirsha, B.V., Leendert Johanness Bergwerff a/k/a Hans Bergwerff, Linda Sieval, Respondents; Notice of Filing of Complaint and Assignment

November 16, 2018.

Notice is given that a complaint has been filed with the Federal Maritime Commission (Commission) by Logfret, Inc., hereinafter “Complainant”, against Kirsha, B.V., Leendert Johanness Bergwerff a/k/a Hans Bergwerff, and Linda Sieval, hereinafter “Respondents”. Complainant states that it “. . . provides transport, logistics and related shipping services to customers in the United States and worldwide” and is licensed by the Commission. Complainant states that it “. . . is an affiliate of Logfret, B.V. . . . ” Complainant states that “. . . Respondent Kirsha, B.V. is a corporation organized and existing under the laws of the Netherlands. . . .” Complainant states that “Respondent Ms. Linda Sieval, a Dutch national, was a sales manager for Logfret B.V. until the termination of her employment on March 1, 2018. Complainant states that Respondent Mr. Hans Bergwerff, is “. . . a Dutch national, who exercises signatory authority and direct control over Kirsha, B.V.”

Complainant alleges that Respondents, in the course of their management of Logret B.V., violated 46 U.S.C. 41103(a) by unlawfully routing shipments to a competitor, and improper use of Complainant's bill of lading.

Complainant seeks reparations in the amount of $2,000,000 and other relief. The full text of the complaint can be found in the Commission's Electronic Reading Room at www.fmc.gov/18-10.

This proceeding has been assigned to Office of Administrative Law Judges. The initial decision of the presiding office in this proceeding shall be issued by November 18, 2019, and the final decision of the Commission shall be issued by June 1, 2020.

Rachel E. Dickon,
Secretary.

[FR Doc. 2018-25415 Filed 11-20-18; 8:45 am]

BILLING CODE 6731-AA-P